FEDERAL COMMUNICATIONS COMMISSION

47 CFR Part 73

[MB Docket No. 25-84; RM-11995; DA 25-336; FR ID 290347]

Television Broadcasting Services Silver City and Truth or Consequences, New Mexico

AGENCY: Federal Communications Commission.

ACTION: Final rule.

SUMMARY: This document amends the Table of TV Allotments (table) of the Federal Communications Commission's (Commission) rules by deleting channel 12 at Silver City, New Mexico and reallotting channel 12 from Silver City to Truth or Consequences, New Mexico in response to a Petition for Rulemaking filed by TV-49, Inc., the permittee of an unbuilt full power television station KKAB on channel 12 allotted to Silver City, New Mexico. The staff engineering analysis finds that the proposal is in compliance with the Commission's principal community coverage and technical requirements. TV-49, Inc. also requested modification of its construction permit to specify Truth or Consequences as its community of license.

DATES: Effective April 30, 2025.

FOR FURTHER INFORMATION CONTACT: Emily Harrison, Media Bureau, at Emily.Harrison@fcc.gov, (202) 418-1665, or Mark Colombo, Media Bureau, at Mark.Colombo@fcc.gov, (202) 418-7611.

SUPPLEMENTARY INFORMATION: This is a synopsis of the Commission's Report and Order, MB Docket No. 25-84; RM-11995; DA 25-336, adopted April 11, 2025, and released April 11, 2025. The proposed rule was published at 90 FR 10044 on February 21, 2025. The full text of this document is available online at https://www.fcc.gov/edocs.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under New Mexico, revise the entry for “Silver City” and add an entry in alphabetical order for “Truth or Consequences” to read as follows:

§ 73.622 Digital television table of allotments.

* * * * *

(j) * * *

Community | Channel No.
* * * * *
New Mexico
* * * * *
Silver City | 10
Truth or Consequences | 12

* * * * *

[FR Doc. 2025-07334 Filed 4-29-25; 8:45 am]

BILLING CODE 6712-01-P